DEPARTMENT OF THE INTERIOR

Bureau of Land Management

[CO-170-1430-EQ; COC 64592]

Notice of Realty Action

AGENCY: Bureau of Land Management, Interior.

ACTION: Notice of realty action, closure of public land.

SUMMARY: The following lands have been temporarily closed to public use under Federal regulations at Title 43 Code of Federal Regulations § 8364.1.

A portion of Federal lands within sections 20, 21, 27, 28, 29, 30, 31, 32, 33, 34, of protracted Township 42 N., R.7 W., New Mexico Principal Meridian. Further described as: beginning at a point 0.5 mile north of Cascade Gulch and extending northeasterly along the east side of Colorado State Highway #110A to the junction of San Juan County #52, thence southeasterly along the Middle Fork of Cement Creek to the divide between the Middle Fork Cement Creek and the South Fork of the Animas River, thence south along the ridge line forming the Colorado Basin to Storm Peak, thence west along a descending ridge line to the tree line between Grassy Gulch and Cascade Gulch, thence northwest to the point of beginning.

The described lands are closed to general public use until June 15th, 2002.

FOR FURTHER INFORMATION CONTACT: Charlie Higby, BLM Realty Specialist, (970) 385-1374; San Juan Public Lands Center, 15 Burnett Court, Durango, Colorado 81301.

SUPPLEMENTARY INFORMATION: The following are exempt from the closure: the San Juan County Sheriff; members of San Juan County Search and Rescue on official business, Colorado Department of Transportation and; Core Mountain Enterprises, LLC performing avalanche data collection work under BLM permit number COC 64592.

Persons with valid existing rights may continue to exercise those rights under the terms and conditions of their contract, lease, permit, right-of-way grant, or mining claim and, must notify Core Mountain Enterprises of their plans to be in the closure area prior to exercising those rights.

The access closure is necessary to protect the general public during periods of avalanche data collection work as authorized under BLM permit COC 64592.

Any person who fails to comply with a closure or restricted use order issued under this subpart may be subject to penalties provided for at Title 43 Code of Federal Regulations § 8360.0-7, including a fine not to exceed $10,000 and/or imprisonment not to exceed 12 months.

Calvin N. Joyner,
Center Manager, San Juan Public Lands Center.

[FR Doc. 02-12926 Filed 5-22-02; 8:45 am]

BILLING CODE 4310-JB-P